ENVIRONMENTAL PROTECTION AGENCY

[EPA-HQ-OPPT-2014-0836; FRL-9920-76]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from November 3, 2014 to November 28, 2014.

DATES: Comments identified by the specific PMN number or TME number, must be received on or before February 23, 2015.

ADDRESSES: Submit your comments, identified by docket identification (ID) number EPA-HQ-OPPT-2014-0836, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: LaVerne Jones, Information Management Division (7407M), Office of Pollution Prevention and Toxics, Environmental Protection Agency, 1200 Pennsylvania Ave. NW., Washington, DC 20460-0001; telephone number: (202) 564-6382; email address: Jones.LaVerene@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the Agency taking?

This document provides receipt and status reports, which cover the period from November 3, 2014 to November 28, 2014, and consists of the PMNs and TMEs both pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—44 PMNs Received From 11/3/14 to 11/28/14
Case No. | Received date | Projected notice end date | Manufacturer/Importer | Use | Chemical
P-15-0075 | 11/4/2014 | 2/2/2015 | DIC International (USA) LLC | (G) A component of exterior, automotive and aero paint | (G) Siliicone Acrylic/Methacrylic Polymer.
P-15-0078 | 11/5/2014 | 2/3/2015 | CBI | (G) Coating material for electronics | (G) Polyamic acid.
P-15-0076 | 11/5/2014 | 2/3/2015 | CBI | (G) Coating material for electronics | (G) Polyamic acid.
P-15-0077 | 11/5/2014 | 2/3/2015 | CBI | (G) Coating material for electronics | (G) Polyamic acid.
P-15-0080 | 11/6/2014 | 2/4/2015 | CBI | (G) Asphalt additive | (G) Fatty acid rxn products with aminoalkyamines.
P-15-0079 | 11/6/2014 | 2/4/2015 | CBI | (G) Asphalt additive | (G) Fatty acid rxn products with aminoalkylhydroxyamines.
P-15-0082 | 11/7/2014 | 2/5/2015 | CBI | (G) Back coating agent | (G) Siloxanes and silicones, alkyl group-terminated, polymers with carboxylic acid and substituted carbopolycyclic ester.
P-15-0083 | 11/7/2014 | 2/5/2015 | CBI | (G) Polyurethane resin | (G) Siloxanes and silicones, dialkyl, substituted alkyl group-terminated, polymers with alkanediol, alkyldiisocyanate, dialkyl carbonate, substituted heteromonocycle, alkanediol, diamine, substituted alkylpropanoic acid, substituted trialkyl carbomonocycle, alkylene bis [substituted carbomonocycle] and substituted alkanediol, compounds (compds), with trialkylamine.
P-15-0084 | 11/7/2014 | 2/5/2015 | Compass Chemical International LLC | (G) Subsurface chemical injection valves, side pocket mandrels | (G) Aminophosphonate salt.
P-15-0081 | 11/7/2014 | 2/5/2015 | CBI | (G) Open, dispersive use. Ingredient in liquid paint coating | (G) Polysilanol, polymer with 2-(chloromethyl)oxirane and 4,4'-(1-methylethylidene)bis[phenol], alkoxylated.
P-15-0085 | 11/12/2014 | 2/10/2015 | CBI | (G) Chemical reactant | (G) Polyol polyester.
P-15-0087 | 11/13/2014 | 2/11/2015 | CBI | (G) Intermediate | (G) Substituted heteromonocyclic carboxylic acid salt.
P-15-0088 | 11/13/2014 | 2/11/2015 | CBI | (G) Coatings | (G) Glycidoxy functional siloxane.
P-15-0091 | 11/14/2014 | 2/12/2015 | CBI | (G) Additive in coatings | (G) Modified polyalkyleneglycolphosphate.
P-15-0092 | 11/14/2014 | 2/12/2015 | CBI | (G) Acrylic pressure sensitive adhesive | (G) Acrylic polymer.
P-15-0093 | 11/14/2014 | 2/12/2015 | CBI | (S) Intermediate | (G) Aromatic polymer salt.
P-15-0094 | 11/14/2014 | 2/12/2015 | CBI | (G) Polymer coating | (G) Polyaromatic amine.
P-15-0095 | 11/14/2014 | 2/12/2015 | CBI | (G) Radiation cured inks | (G) Urethane Acrylate.
P-15-0096 | 11/14/2014 | 2/12/2015 | Colonial chemical, INC. | (S) Hard surface cleaner in high caustic solutions | (S) D-glucopyranose, oligomeric, decyl octyl glycosides, polymers with epichlorohydrin, glycidyl ethers, dihydrogen phosphates, sodium salts.
P-15-0097 | 11/14/2014 | 2/12/2015 | Colonial Chemical, INC. | (S) Hard surface cleaner in high caustic solutions | (S) D-glucopyranose, oligomeric, C10-16-alkyl glycosides, polymers with epichlorohydrin, glycidyl ethers, dihydrogenphosphates, sodium salts.
P-15-0098 | 11/14/2014 | 2/12/2015 | CBI | (G) Intermediate in production of HFC | (G) Hydrochlorofluorocarbon.
P-15-0099 | 11/18/2014 | 2/16/2015 | CBI | (G) Textile coating | (G) Blocked polyisocyanate.
P-15-0100 | 11/19/2014 | 2/17/2015 | CBI | (G) Raw material in the manufacture of an intermediate chemical | (G) Aliphatic amino alcohol.
P-15-0102 | 11/21/2014 | 2/19/2015 | CBI | (G) Filter media for heavy metal removal from water | (G) Alkali titanosilicate salt.
P-15-0103 | 11/21/2014 | 2/19/2015 | Shin-Etsu MicroSi | (G) Gravure ink | (G) Copolymer of vinyl chloride, vinyl carboxylate, acrylic acid, and acrylamide.
P-15-0104 | 11/21/2014 | 2/19/2015 | Otis Institute, Inc | (S) The first chemical synthesis step in producing a down converting phosphor solution for use in an optical filter | (G) Alkanoic acid, reaction products with cadmium selenide and 1-decanamine.
P-15-0106 | 11/21/2014 | 2/19/2015 | CBI | (G) Mining and fuel additive | (G) Alkene reaction and distillation by-products and residues.
P-15-0108 | 11/24/2014 | 2/22/2015 | Miwon North America, INC | (S) Resin for industrial coating | (G) Aliphatic urethane acrylate.
P-15-0109 | 11/24/2014 | 2/22/2015 | CBI | (G) Open, non-dispersive | (G) Reaction product of a mixture of aromatic dianhydrides and aliphatic esters with an aromatic diamine.
P-15-0110 | 11/24/2014 | 2/22/2015 | CBI | (G) Processing aid for vegetable oil refining for production of biofuel | (S) Phosphoinositide phospholipase C.
P-15-0111 | 11/24/2014 | 2/22/2015 | Huntsman | (G) Hardener for coating systems | (G) Fatty acids, tall-oil, reaction products with an ether and triethylenetetramine.
P-15-0114 | 11/25/2014 | 2/23/2015 | 3M | (S) Dielectric medium; heat transfer | (S) 2-Butanone, 1,1,1,3,4,4,4-heptafluoro-3-(trifluoromethyl).
P-15-0115 | 11/26/2014 | 2/24/2015 | CBI | (G) Electric molding | (G) Phenol-biphenyl-formaldehyde polycondensate.
P-15-0116 | 11/26/2014 | 2/24/2015 | CBI | (G) Electric molding | (G) Phenol-biphenyl-formaldehyde polycondensate.
P-15-0119 | 11/26/2014 | 2/24/2015 | Miwon North America, INC | (S) Resins for Industrial coating | (G) Polyester acrylate.
P-15-0120 | 11/28/2014 | 2/26/2015 | Miwon North America, INC | (S) Resins for industrial coating | (G) Monofuntional acrylate.
P-15-0121 | 12/1/2014 | 3/1/2015 | CBI | (G) Sulfide scavenger | (G) Formaldehyde polymer with amine mixture.
P-15-0123 | 12/1/2014 | 3/1/2015 | CBI | (S) Fragrance ingredient for use in fragrances for soaps, detergents, cleaners and other household products | (G) Alkyl substituted 5-benzofuranol.
P-15-0122 | 12/2/2014 | 3/2/2015 | CBI | (G) Photo catalyst | (G) Bicycloamine.
P-15-0124 | 12/3/2014 | 3/3/2015 | Organic Dyestuffs Corporation | (G) Typical use 4 this product is hair dye | (G) Basic orange 31.
P-15-0128 | 12/4/2014 | 3/4/2015 | Henkel Corporation | (S) Chemical intermediate to cureable monomer | (S) 2-Propenoic acid,6-[[3-(4-benzoylphenoxy)propyl]thio]hexyl ester.
P-15-0125 | 12/4/2014 | 3/4/2015 | Cardolite Corporation | (G) Additive blended into final epoxy coating formulation | (G) Cashew nutshell liquid (liq), polymer reacted with hydrocarbons..
P-15-0130 | 12/8/2014 | 3/8/2015 | CBI | (G) Surfactant for industrial use | (G) Ethoxylated alkyl chloride.
P-15-0129 | 12/8/2014 | 3/8/2015 | CBI | (G) Intermediate in the manufacture of a surfactant | (G) Ethoxylated alkyl chloroformate.

In Table II. of this unit, EPA provides the following information (to the extent that such information is not claimed as CBI) on the NOCs received by EPA during this period: The EPA case number assigned to the NOC, the date the NOC was received by EPA, the projected end date for EPA's review of the NOC, and chemical identity.

Table II—36 NOCs Received From 11/03/14 to 11/28/14
Case No. | Received date | Commencement notice end date | Chemical
P-14-0104 | 11/6/2014 | 11/3/2014 | (G) Glycerides, C8-C18 and C18 unsaturated, from algal fermentation.
P-14-0312 | 11/6/2014 | 11/3/2014 | (G) Algal biomass from fermentation.
P-14-0592 | 11/6/2014 | 11/5/2014 | (G) Aromatic carboxylic acid polymer with aminoalkyl-alkyldiamine, cycloalkyldiamine, alkyldiol, alkyldioic acid, alkyl diol, dihydoxylalkylcarboxylic acid, cycloalkyl diisocyanate, compound with dialkylamino alcohol.
P-14-0205 | 11/7/2014 | 10/10/2014 | (G) Fatty acid imidazolines.
P-14-0020 | 11/10/2014 | 11/7/2014 | (G) Heteropolycyclic diacrylate.
P-13-0830 | 11/11/2014 | 10/14/2014 | (G) Dicarboxylic acid, polymer with cycloalkyl alkyl-2-alkennoate, N-(dimethyl-oxoalkyl)-2-alkyenamide, alkanediol, -hydro—hydroxypoly[oxy-alkanediyl ], 3-hydroxy-2-(hydroxymethyl)-alkyl carboxylic acid, isocyanato-(isocyanatoalkyl)-trimethylcycloalkane and methylalkenoate, alkyl hydroperoxideinitiated, compounds with tralkyllamine.
P-13-0832 | 11/11/2014 | 10/14/2014 | (G) Dicarboxylic acid, polymer with cycloalkyl alkyl-alkenoate, N-(dialkyl-oxoalkyl)-alkenamide, alkanediol, hydroxy-(hydroxyalkyl)-alkyl carboxylic acid, methylenebis[isocyanatocycloalkane] and alkyll alkenoate, alkyl hydroperoxide-initiated, compounds with dialkylalkylamine.
P-14-0603 | 11/11/2014 | 11/10/2014 | (S) Bismuth nitrate oxide.
P-14-0716 | 11/13/2014 | 11/4/2014 | (G) Fatty acids, dimers, polymers with alkanoic acid, alkylene oxides, substituted alkanediol.
P-14-0735 | 11/13/2014 | 11/10/2014 | (G) Ultra Violet-curable urethane acrylate.
P-14-0618 | 11/14/2014 | 10/31/2014 | (G) Substituted acrylamide.
P-13-0141 | 11/14/2014 | 11/6/2014 | (G) Alkyl amines polymer with polyglycol ether, and bis a epoxy reaction products with aromatic epoxies.
P-14-0351 | 11/18/2014 | 11/5/2014 | (G) Epoxy compounded acrylate polymer.
P-14-0340 | 11/18/2014 | 11/17/2014 | (G) 2-Propenoic acid, 2-methyl-, functionalized alkyl ester polymer with butyl 2-propenoate and methyl 2-methyl-2-propenoate.
P-14-0731 | 11/18/2014 | 11/17/2014 | (S) Hexanedioic acid, polymer with 2,2'-(methlylimino)bis[ethanol], di-(9z)-9-octadecenoate (ester) compound with chloromethane.
P-14-0258 | 11/19/2014 | 10/9/2014 | (S) Distillates (fischer-tropsch) heavy, C18-50, branched and linear.
P-14-0424 | 11/19/2014 | 11/9/2014 | (S) Siloxanes and silicones, di-me, mono[[dimethoxy[3-[(1-oxo-2-propen-1-yl)oxy]propyl]silyl]oxy]-terminated.
P-13-0793 | 11/19/2014 | 11/11/2014 | (G) Functionalized carbon nanotubes.
P-14-0654 | 11/20/2014 | 11/20/2014 | (S) D-glucopyranose, oligomeric, C10-16-alkyl glycosides, polymers with epichlorohydrin, 3-[bis(2-hydroxyethyl)amino]-2-hydroxypropyl ethers, sodium 2-chloroacetate (1:1)-quarternized, inner salts.
P-14-0600 | 11/21/2014 | 10/21/2014 | (G) Tall oil polymd., polymer with aliphatic and alicyclic amines.
P-12-0193 | 11/21/2014 | 10/30/2014 | (G) Maleated resin.
P-14-0316 | 11/21/2014 | 10/30/2014 | (G) Substituted bismuth.
P-14-0474 | 11/21/2014 | 10/30/2014 | (G) Maleated resin, half-ester.
P-14-0629 | 11/21/2014 | 11/17/2014 | (S) Fatty acids, C18-unsaturated, dimers mixed esters with 2-octyldodecanol and polyethylene polypropylene glycol mono butyl ether.
P-14-0585 | 11/24/2014 | 10/30/2014 | (G) Anthracene derivative.
P-14-0463 | 11/24/2014 | 11/23/2014 | (G) Butanedioic acid, monopolyisobutylene derivs., bis[2-[(2-hydroxyethyl)alkylamino)alkylamino]ethyl] esters.
P-14-0625 | 11/25/2014 | 10/30/2014 | (G) Substituted alkylnitrile.
P-14-0650 | 11/26/2014 | 11/6/2014 | (G) Alkylphenol polymer with bisphenol A, epichlorohydrin, carboxylic acid, branced alkylamine and polyethylene glycol.
P-14-0762 | 11/26/2014 | 11/25/2014 | (S) Fatty acids, C16-18, esters with ethylene glycol.
P-14-0774 | 12/1/2014 | 11/24/2014 | (G) Fatty acids, long chain alkyl and alkenyl, propoxylated.
P-14-0562 | 12/2/2014 | 11/19/2014 | (G) Hdryoxylated vegetable oil.
P-14-0628 | 12/3/2014 | 11/14/2014 | (G) Poly (oxy-1,2-ethanediyl), .alpha.-hydro-.omega.-hydroxy-, polymer with alkyl diisocyanate, fatty alcohol.
P-14-0608 | 12/3/2014 | 11/25/2014 | (G) Alkoxy halide metal complexes.
P-14-0421 | 12/4/2014 | 11/19/2014 | (G) Isocyanate terminated polyurethane polymer.
P-14-0203 | 12/7/2014 | 11/20/2014 | (G) Fatty acid imidazoline.
P-14-0729 | 7/24/2014 | 10/22/2014 | (G) Modifier for electronic materials.

If you are interested in information that is not included in these tables, you may contact EPA as described in Unit III. to access additional non-CBI information that may be available.

Authority: 15 U.S.C. 2601 et seq.

Dated: December 23, 2014.
Deena Watson-Vann,
Acting Director, Information Management Division, Office of Pollution Prevention and Toxics.

[FR Doc. 2015-01173 Filed 1-22-15; 8:45 am]

BILLING CODE 6560-50-P